ENVIRONMENTAL PROTECTION AGENCY

40 CFR Part 52

[OH 103-1b; FRL-7114-2]

Approval and Promulgation of Implementation Plans; Ohio

AGENCY: Environmental Protection Agency (EPA).

ACTION: Proposed rule.

SUMMARY: EPA is proposing to approve portions of Ohio's March 20, 2000, submittal of sulfur dioxide regulations for various counties. In this action, EPA is proposing to approve the revised emission limits of the Ohio Administrative Code (OAC) for sources in Butler County (OAC 3745-18-15). EPA is also proposing to approve the revised emission limits for the Picway Generating Station in Pickaway County (OAC 3745-18-71), and for the Painesville Municipal Plant boiler number 5 in Lake County (OAC 3745-18-49). In addition, EPA is proposing to approve selected parts of the State's rule for compliance schedules (OAC 3745-18-03) and test methods (OAC 3745-18-04), most of which apply to the new sulfur dioxide (SO2) emission limits in Butler and Pickaway counties. In conjunction with these actions, EPA is proposing to rescind the federally promulgated emission limitations for SO2 for Butler, Lorain, Coshocton, Gallia, and Lake Counties, since these limits have been superseded by the approved state limits. In the final rules section of this Federal Register, the EPA is approving the State's request as a direct final rule without prior proposal because EPA views this action as non-controversial and anticipates no adverse comments. A detailed rationale for approving the State's request is set forth in the direct final rule. The direct final rule will become effective without further notice unless EPA receives relevant adverse written comment. Should EPA receive such comment, it will publish a timely withdrawal of the direct final rule informing the public that the direct final rule will not take effect, and such public comment received will be addressed in a subsequent final rule based on the proposed rule. If no adverse written comments are received, the direct final rule will take effect on the date stated in that document, and no further action will be taken. EPA does not plan to institute a second comment period on this action. Any parties interested in commenting on this action should do so at this time.

DATES: Written comments must be received on or before March 4, 2002.

ADDRESSES: Written comments may be mailed to J. Elmer Bortzer, Chief, Regulation Development Section, Air Programs Branch (AR-18J), Environmental Protection Agency, 77 West Jackson Boulevard, Chicago, Illinois 60604. Copies of the materials submitted by the Ohio Environmental Protection Agency may be examined during normal business hours at the following location: Environmental Protection Agency, Region 5, Air and Radiation Division, 77 West Jackson Boulevard, Chicago, Illinois, 60604.

FOR FURTHER INFORMATION CONTACT: Phuong Nguyen at (312) 886-6701.

SUPPLEMENTARY INFORMATION: For additional information see the direct final rule published in the rules section of this Federal Register.

Dated: November 29, 2001.
Christine Todd Whitman,
Administrator.

[FR Doc. 02-2380 Filed 1-30-02; 8:45 am]

BILLING CODE 6560-50-P